FEDERAL COMMUNICATIONS COMMISSION

47 CFR Parts 1, 2, 15, 25, 27, 74, 78, and 101

[WT Docket No. 20-443; GN Docket No. 22-352; DA 23-802; FR ID 171502]

Expanding Flexible Use of the 12.2-12.7 GHz Band; Expanding Use of the 12.7-13.25 GHz Band for Mobile Broadband or Other Expanded Use

AGENCY: Federal Communications Commission.

ACTION: Proposed rule; denial of extension of reply comment deadline.

SUMMARY: In this document, the Wireless Telecommunications Bureau (WTB) of the Federal Communications Commission denies the request of Eutelsat S.A., Hispasat, S.A, Intelsat License LLC, Ovzon LLC, and SES Americom, Inc. (collectively, the “Satellite Operators”) for an extension of the reply comment deadline for the Further Notice of Proposed Rulemaking (FNPRM) and Notice of Proposed Rulemaking (NRPM) that were published as proposed rules in the Federal Register.

DATES: A request for extension of the FNPRM and NPRM comment and reply comment deadlines, filed on August 23, 2023, was denied on August 31, 2023. The deadline for filing reply comments (in response to the FNPRM and NPRM) was September 8, 2023 as published at 88 FR 43502 (July 10, 2023) and 88 FR 43938 (July 10, 2023).

ADDRESSES: Federal Communications Commission, 45 L Street NE, Washington, DC 20554.

FOR FURTHER INFORMATION CONTACT: Simon Banyai of the Wireless Telecommunications Bureau, at simon.banyai@fcc.gov or (202) 418-1443.

SUPPLEMENTARY INFORMATION: This is a summary of the Wireless Telecommunications Bureau's Order, WT Docket No. 20-443; GN Docket No. 22-352; DA 23-802, adopted and released on August 31, 2023. The full text of this document is available at https://docs.fcc.gov/public/attachments/DA-23-802A1.pdf. Text and Microsoft Word formats are also available (replace “.pdf” in the link with “.txt” or “.docx”, respectively). Alternative formats are available for people with disabilities (braille, large print, electronic files, audio format), by sending an email to fcc504@fcc.gov or call the Commission's Consumer and Governmental Affairs Bureau at (202) 418-0530 (voice), (202) 418-0432 (TTY).

Synopsis

1. On May 19, 2023, the Commission released a Report and Order and Further Notice of Proposed Rulemaking (in WT Docket No. 20-443) and Notice of Proposed Rulemaking and Order (in GN Docket No. 22-352).¹ In the Further Notice of Proposed Rulemaking (FNPRM), the Commission investigates the potential to expand terrestrial fixed use or to permit unlicensed use in the 500 megahertz of mid-band spectrum at 12.2-12.7 GHz (12.2 GHz band). In the Notice of Proposed Rulemaking (NPRM), the Commission proposes to repurpose some or all of the 12.7-13.25 GHz (12.7 GHz band) for mobile broadband or other expanded use. Comments in response to the FNPRM and the NPRM were due on August 9, 2023, while reply comments were due on September 8, 2023. On August 8, the Wireless Telecommunications Bureau (WTB) denied a prior joint request ² to extend by 45 days the comment and reply in this proceeding.³

¹ See Expanding Flexible Use of the 12.2-12.7 GHz Band; Expanding Use of the 12.7-13.25 GHz Band for Mobile Broadband or Other Expanded Use, WT Docket No. 20-443, GN Docket No. 22-352, FCC 23-36, Report and Order and Further Notice of Proposed Rulemaking and Notice of Proposed Rulemaking and Order, 2023 WL 3686032 (2023 12 GHz Item). The FNPRM and the NPRM were subsequently published separately in the Federal Register. See Expanding Flexible Use of the 12.2-12.7 GHz Band, 88 FR 43502 (July 10, 2023) (FNPRM); Expanding Use of the 12.7-13.25 GHz Band for Mobile Broadband or Other Expanded Use, 88 FR 43938 (July 10, 2023) (NPRM).

² Joint Request for Extension of Comment Deadline of the Satellite Industry Association (SIA), together with Eutelsat S.A., Hispasat, S.A, Intelsat License LLC, Ovzon LLC, SES Americom, Inc., Space Exploration Technologies Corp., and WorldVu Satellites Limited, WT Docket No. 20-443, GN Docket No. 22-352 (filed Aug. 4, 2023) (First Joint Request).

³ Expanding Flexible Use of the 12.2-12.7 GHz Band; Expanding Use of the 12.7-13.25 GHz Band for Mobile Broadband or Other Expanded Use, WT Docket No. 20-443, GN Docket No. 22-352, Order, DA 23-671, 2023 WL 5125009 (Aug. 8, 2023) (Denial of the First Joint Request).

2. On August 23, 2023, the Satellite Operators filed a joint request to extend the reply comment deadline by 30-days—from September 8, 2023, to October 10, 2023.⁴ The Satellite Operators argue additional time would benefit all parties by enabling closer review of several technical studies and analyses filed with the comments in the proceeding.⁵ They assert they plan to use the extension to prepare and submit a technical study that responds to the various technical arguments raised by commenters.⁶ They argue the Commission has previously found extensions to be justified when technically complex issues were raised in a proceeding like this one.⁷

⁴ Joint Request for Extension of Reply Comment Deadline of Intelsat License LLC, SES Americom, Inc., Hispasat, S.A., Eutelsat S.A., and Ovzon LLC (collectively, the “Satellite Operators”), WT Docket No. 20-443, GN Docket No. 22-352 (filed Aug. 23, 2023) (Second Joint Request).

⁵ Id. at 1 & n.2 (citing comments attaching technical analyses filed by NTIA, Nokia, DIRECTV, LLC, WorldVu Satellites Limited, and DISH Network Corp.).

⁶ Id. at 2.

⁷ Id at 2-3.

3. The Wireless Telecommunications Bureau denies the Satellite Operators' joint request for extension of the reply comment deadline in this proceeding. As set forth in section 1.46 of the Commission's rules, it is the Commission's policy that extensions of time shall not be routinely granted.⁸ In this proceeding, the deadline for comments was set for 30 days after publication of a summary of the item in the Federal Register, with reply comments due 30 days after the comment date.⁹ These are not unusual timeframes for comment and reply cycles in a Commission rulemaking proceeding. Moreover, the issues present in Commission rulemakings are often technically complex in nature; the presence of complex technical issues alone does not provide justification for an extension. Furthermore, the Wireless Telecommunications Bureau finds that the Satellite Operators have neither identified specific technical issues that require additional time for analysis nor explained with particularity why such analysis cannot be completed by the current reply comment deadline. In addition, the Wireless Telecommunications Bureau notes that this proceeding has been designated permit-but-disclose,¹⁰ and parties may subsequently submit additional analyses in accordance with the Commission's ex parte rules.¹¹ For these reasons, the Wireless Telecommunications Bureau denies this Second Joint Request. Reply comments in the proceeding were due September 8, 2023.

⁸ 47 CFR 1.46(a).

⁹ See 2023 12 GHz Item at *1. As noted in the Bureau's Denial of the First Joint Request, commenters had access to the underlying rulemaking document for almost three months prior to the initial comment deadline. See Denial of the First Joint Request at *2, para. 3.

¹⁰ 2023 12 GHz Item at *54, para. 148.

¹¹ See 47 CFR 1.200 et seq.

Ordering Clause

4. Accordingly, it is ordered that, pursuant to section 4(i) of the Communications Act of 1934, as amended, 47 U.S.C. 154(i), and sections 0.131, 0.331, and 1.46 of the Commission's rules, 47 CFR 0.131, 0.331, and 1.46, the Joint Request for Extension of Reply Comment Deadline filed by Intelsat License LLC, SES Americom, Inc., Hispasat, S.A., Eutelsat S.A., and Ovzon LLC is denied.

Federal Communications Commission.
Blaise Scinto,
Chief, Broadband Division, Wireless Telecommunications Bureau.

[FR Doc. 2023-20088 Filed 9-15-23; 8:45 am]

BILLING CODE 6712-01-P